DEPARTMENT OF COMMERCE

National Oceanic and Atmospheric Administration

[I.D. 042004C]

Fisheries of the Exclusive Economic Zone Off Alaska; Public Workshop

AGENCY: National Marine Fisheries Service (NMFS), National Oceanic and Atmospheric Administration (NOAA), Commerce.

ACTION: Notice of workshop.

SUMMARY: NMFS will present a workshop on proposed catch-monitoring standards for shoreside processors and buyers that intend to take deliveries of crab species managed under the Fishery Management Plan for the Bering Sea and Aleutian Islands King and Tanner Crabs (Crab FMP).

DATES: Thursday, May 6, 2004, 10 a.m. - 4 p.m., Pacific local time (P.l.t.).

ADDRESSES: The workshop will be held at the Nordby Center, located in Fishermen's Terminal, 1711 W. Nickerson St., Seattle, WA.

FOR FURTHER INFORMATION CONTACT: Alan Kinsolving, 907-586-7228.

SUPPLEMENTARY INFORMATION: NMFS and the State of Alaska Department of Fish and Game are developing proposed regulations to implement a quota-based program for the crab fisheries covered under the Crab FMP. One aspect of this process is the development of catch monitoring, weighing, and accounting standards for shoreside processors and other first-buyers of crab. NMFS is conducting a workshop on May 6, 2004, from 10 a.m. - 4 p.m., P.l.t., so that interested industry members may provide input to NMFS on the development and implementation of these standards.

This workshop is physically accessible to people with disabilities. Requests for sign language interpretation or other auxiliary aids should be directed to Alan Kinsolving (see FOR FURTHER INFORMATION CONTACT).

Dated: April 21, 2004.
Alan D. Risenhoover,
Acting Director, Office of Sustainable Fisheries, National Marine Fisheries Service.

[FR Doc. 04-9542 Filed 4-26-04; 8:45 am]

BILLING CODE 3510-22-S